DEPARTMENT OF AGRICULTURE

Food and Nutrition Service

Agency Information Collection Activities: Evaluation of Technology Modernization for SNAP Benefit Redemption Through Online Transactions for the USDA Food and Nutrition Service

AGENCY: Food and Nutrition Service (FNS), USDA.

ACTION: Notice and request for comments.

SUMMARY: In accordance with the Paperwork Reduction Act of 1995, this notice invites the general public and other public agencies to comment on this proposed information collection. This collection is a new collection to test the feasibility of online purchasing for SNAP through Evaluation of Technology Modernization for SNAP Benefit Redemption through Online Transactions for the USDA. The final report will synthesize findings across pilots and detailed appendix chapters will integrate implementation and integrity evaluation findings for each pilot. This collection includes in-depth interviews with key informants, including SNAP online retailers and their web service providers, the designated third-party processor for the pilots, EBT processors, and State Agency EBT coordinators; and preparation and transmission of data from retailers and their web service providers, EBT processors, the third-party processor, and state SNAP agencies.

DATES: Written comments must be received on or before September 28, 2018.

ADDRESSES: Comments may be sent to: Eric Williams, Food and Nutrition Service, U.S. Department of Agriculture, 3101 Park Center Drive, Room 1014, Alexandria, VA 22302. Comments may also be submitted via fax to the attention of Eric Williams at 703-305-2576 or via email to Eric.Williams@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Eric Williams at 703-305-2576.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Evaluation of Technology Modernization for SNAP Benefit Redemption through Online Transactions for the USDA Food and Nutrition Service.

OMB Number: Not Yet Assigned.

Expiration Date: Not Yet Determined.

Type of Request: New collection.

Abstract: The Supplemental Nutrition Assistance Program (SNAP) offers nutrition assistance to low-income individuals and families and provides economic benefits to communities. The Agricultural Act of 2014 (Farm Bill) mandated the Online Purchasing Pilots to test the feasibility and implications of allowing retail food stores to accept SNAP benefits through online transactions. Prior to the pilots, SNAP benefits could only be redeemed in person. The Farm Bill provided FNS and its stakeholders an opportunity to begin modernizing benefit redemption through online purchasing for SNAP. For customers using SNAP, online shopping may increase access to healthy and affordable foods, save time, and reduce other barriers to better nutrition. Current participating retailers can offer online shopping, and online merchants can gain the opportunity to serve SNAP customers. For program integrity, online shopping represents opportunities to identify suspicious behavior, but also new ways that benefit misuse and fraud may occur.

To test the feasibility of online purchasing for SNAP, FNS established eight online purchasing pilots and requested volunteers on September 15, 2016 (OMB Control No.: 0584-0606, expiration date 3/31/2019) for the Evaluation of Technology Modernization for SNAP Benefit Redemption through Online Transactions (Evaluation of Online Purchasing Pilots). Through this evaluation, FNS seeks to learn how the pilots operate, the implementation challenges and lessons learned, the characteristics of SNAP online customers, the risks and benefits of online purchasing for the integrity of SNAP, and the requirements for expansion.

Through the Evaluation of Online Purchasing Pilots, the research team will address FNS' two interrelated objectives: the analyses of the pilots' (1) implementation and (2) integrity. Implementation study questions relate to: The SNAP online transaction approaches; the process, challenges, and lessons of implementation; the characteristics of SNAP households that shop online; and the level of effort for stakeholders (e.g., retailers, states, EBT processors). Integrity study questions focus on: Delivery patterns and their relationship to customer addresses and retailer locations; customer profiles and their relationship to EBT cards and SNAP households; customer shopping patterns; and problems such as refunds and cart abandonment. To meet these two overarching objectives, the research team will collect and analyze qualitative data from key informants and quantitative administrative data about online transactions, retailers, and SNAP households that will be provided by FNS, retailers, and state SNAP agencies. The implementation and integrity analyses will inform FNS' decisions about whether and how to make SNAP online purchases more widely available, and how to ensure that protections against abuse remain strong or grow stronger. Eight retailers in eight states are participating in the pilot, we anticipate 100 percent participation.

Affected Public: State, Local and Tribal Agencies; Business-for-profit.

Respondent Types: The study includes in-depth interviews with a total of four respondent groups. Three are business respondents: (1) Personnel from online retailers, including project managers, customer service managers, staff who handle fulfillment of orders, IT personnel or third-party web service providers; (2) EBT processor staff; and (3) third-party processor staff. The fourth state SNAP agency staff, including State Agency EBT coordinators. Staff from two of these respondent groups (retailers or their third-party web service providers and state SNAP agencies) will also provide data files for the quantitative analysis.

Estimated Number of Respondents: The total estimated number of respondents is 177. This includes: 24 retailer staff who handle the fulfillment, shipping, and delivery of EBT customer orders; 24 retailer customer service managers; 16 retailer IT personnel or third-party web service providers; 32 retailer project managers; 16 retailer personnel who completed the pilot application; 8 retailer/web provider data managers; 8 retailer/web provider staff who will prepare and transfer the detailed transaction file; 8 retailer/web provider staff who will prepare and transfer the aggregated file; 6 EBT processor managers; 3 third-party processor personnel; 16 State agency EBT coordinators; 8 State Agency SNAP program or data staff.

Estimated Number of Responses per Respondent: The total estimated number of responses is 2.232 responses per respondent. Retailer personnel (personnel who handle the fulfillment, shipping, and delivery of EBT customer orders, customer service managers, IT personnel or third-party web service providers, project managers, and personnel who completed the pilot application) will respond to one in-person interview or one telephone interview. Managers for two EBT processors will respond to one in-person interview and two telephone interviews for a total of three responses each. Third-party processor managers will respond to one in-person interview and two telephone interviews. State EBT coordinators will respond to one in-person interview. Retailer or web provider data managers will participate in three meetings to discuss the format and transfer of each of two types of files (detailed transaction file and aggregated file). These respondents will transmit detailed and aggregated data files nine times. State agency SNAP program or data staff will each participate in discussion and initial programming of the SNAP case record file data transfer once and provide eight update files.

Estimated Total Annual Responses: 395.

Estimated Time per Response: 1.6 hours is the average estimated time per participant. However, response times varies from 1 hour to 21 hours per response and depending on respondent group, as shown in the table below.

Estimated Total Annual Burden on Respondents: 37,800 minutes (630 hours). See the table below for estimated total annual burden for each type of respondent.

Respondent | Estimated number respondent | Responses annually per respondent | Total annual responses | Estimated average number of hours per response | Estimated total hours
Retailer personnel who handle the fulfillment, shipping, and delivery of EBT customer orders | 24 | 1.00 | 24.00 | 1.00000 | 24.000
Retailer customer service managers | 24 | 1.00 | 24.00 | 1.00000 | 24.000
Retailer IT personnel or third-party web service provider personnel | 16 | 1.00 | 16.00 | 1.00000 | 16.000
Retailer project managers | 32 | 1.00 | 32.00 | 1.50000 | 48.000
Retailer personnel who completed the pilot application | 16 | 1.00 | 16.00 | 1.00000 | 16.000
Retailer/web provider data managers who will participate in file transfer discussion | 8 | 3.00 | 24.00 | 2.00000 | 48.000
Retailer/web provider staff who will prepare and transfer the detailed transaction file | 8 | 9.00 | 72.00 | 1.00000 | 72.000
Retailer/web provider staff who will prepare and transfer the aggregated file | 8 | 9.00 | 72.00 | 1.00000 | 72.000
Third-Party processor personnel | 3 | 3.00 | 9.00 | 2.00000 | 18.000
EBT processor managers | 6 | 3.00 | 18.00 | 2.00000 | 36.000
State agency EBT coordinators | 16 | 1.00 | 16.00 | 1.00000 | 16.000
State agency SNAP program/data staff who will participate in file transfer discussion and initial programming | 8 | 1.00 | 8.00 | 21.00000 | 168.000
State agency SNAP program/data staff | 8 | 8.00 | 64.00 | 1.00000 | 64.000
Total Reporting Burden | 177 |  | 395 |  | 622

Dated: July 19, 2018.
Brandon Lipps,
Administrator, Food and Nutrition Service.

[FR Doc. 2018-16220 Filed 7-27-18; 8:45 am]

BILLING CODE 3410-30-P